DEPARTMENT OF DEFENSE

Defense Finance and Accounting Service; Privacy Act of 1974; Systems of Records

AGENCY: Defense Finance and Accounting Service, DoD.

ACTION: Notice to Amend a System of Records; T7290 Nonappropriated Fund Accounts Receivable System.

SUMMARY: The Defense Finance and Accounting Service is amending a system of records notice to its existing inventory of record systems subject to the Privacy Act of 1974 (5 U.S.C. 552a), as amended.

DATES: This action will be effective without further notice on September 23, 2005 unless comments are received that would result in a contrary determination.

ADDRESSES: Send comments to Ms. Linda Krabbenhoft, Freedom of Information Act/Privacy Act Program Manager, Defense Finance and Accounting Service, Denver, 6760 E. Irvington Place, Denver, CO 80279-8000, telephone (303) 676-6045.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: August 17, 2005.
Jeannette Owings-Ballard,
OSD Federal Register Liaison Officer, Department of Defense.

T7290

SYSTEM NAME:

Nonappropriated Fund Accounts Receivable System (December 1, 2000, 65 FR 72545).

CHANGES:

* * * * *

Retention and disposal:

Delete entry and replace with “Destroy 4 years after cutoff.”

* * * * *

T7290

SYSTEM NAME:

Nonappropriated Fund Accounts Receivable System.

System location:

Director, Defense Finance and Accounting Service-Indianapolis Center, Director for Support Activity, 8899 East 56th Street, Indianapolis, IN 46249-2130.

Categories of individuals covered by the system:

Current and past users of nonappropriated fund instrumentalities (NAFI) whose accounts show balances other than zero; persons using Post billeting facilities on a fee paid basis (bachelor officer quarters, visitor officer quarters and guest house facilities) and persons no longer using such facilities whose accounts have other than zero balances; any individual having a statement of account for the billing period, individuals occupying government housing at any military installation; individual class B telephone subscribers; members, customers or civilians having 30-day credit terms for charge sales and/or dues obligations to NAF activities; all persons whose accounts have been dishonored by banking institutions and their checks returned to NAF activities; and individuals who have cash loans charged to their accounts and any other debtor to a nonappropriated fund instrumentality (NAFI).

Categories of records in the system:

Individual's name, Social Security Number, and rank; amount of charges, billings of items or services furnished; subsidiary ledgers containing detail of services billed and paid by individual; work order forms; invoice listings; monthly receipt vouchers; date and method of payment; file of billings associated with returned/dishonored checks; and other documents relevant for agency purposes.

Authority for maintenance of the system:

5 U.S.C. 5514; 26 U.S.C. 6103(m)(2); 31 U.S.C. 3511, 3512, 3513, 3514, 3701, 3711, 3716, 3720; and E.O. 9397 (SSN).

Purpose(s):

To maintain current rosters as subsidiary records for accounts receivable and cash accountability control; to provide monthly statements to customers; to provide ledger balances for activity financial statements; to prepare aged listing of accounts receivable, 30, 60, and 90 days; to answer inquiries of members on account status and specific transactions; to permit collection of debts owed to a nonappropriated fund instrumentality.

Records in this system of records are subject to use in authorized approved computer matching programs regulated under the Privacy Act of 1974 (5 U.S.C. 552a), as amended, for debt collection.

Routine uses of records maintained in the system, including categories of users and purposes of such users:

In addition to those disclosures generally permitted under 5 U.S.C. 552a(b) of the Privacy Act, these records or information contained therein may specifically be disclosed outside the DoD as a routine use pursuant to 5 U.S.C. 552a(b)(3) as follows:

To the General Accounting Office, the Department of the Treasury, Financial Management, and the Department of Justice for collection action for any delinquent account when circumstances warrant.

To a commercial credit reporting agency for the purpose of either adding to a credit history file or obtaining a credit history file for use in the administration of a debt collection.

To a debt collection agency for the purpose of collection services to recover indebtedness owed to a DoD nonappropriated fund instrumentality.

To any other Federal agency for the purpose of effecting salary offset procedures under the provisions of 5 U.S.C. 5514, against a person employed by that agency when any creditor DoD nonappropriated fund instrumentality has a claim against the person.

To any other Federal agency including, but not limited to, the Internal Revenue Service and Office of Personnel Management for the purpose of effecting an administrative offset as defined at 31 U.S.C. 3701, of a debt.

To the Internal Revenue Service under the provision of 31 U.S.C. 3711(g)(9) to offset a tax refund due the taxpayer to collect or to compromise a Federal claim against the taxpayer.

To the Internal Revenue Service under the provisions of 26 U.S.C. 6103(m)(2) to obtain the mailing address of a taxpayer for the purpose of locating such taxpayer to collect or to compromise a Federal claim against the taxpayer.

Note: Disclosure of a mailing address from the IRS may be made only for the purpose of debt collection, including to a debt collection agency in order to facilitate the collection or compromise of a Federal claim under the Debt Collection Act of 1982, except that a mailing address to a consumer reporting agency is for the limited purpose of obtaining a commercial credit report on the particular taxpayer. Any such address information obtained from the IRS will not be used or shared for any other DoD purpose or disclosed to another Federal, state or local agency which seeks to locate the same individual for its own debt collection purpose.

To any other Federal, state or local agency for the purpose of conducting an authorized computer matching program to identify and locate delinquent debtors for recoupment of debts owed a DoD nonappropriated fund instrumentality.

Any information in this system concerning an individual may be disclosed to a creditor Federal agency requesting assistance for the purpose of initiating debt collection action by way of a salary or administrative offset or tax refund offset against the individual.

The DoD “Blanket Routine Uses” set forth at the beginning of the DFAS compilation of system of records notices also apply to this system.

Disclosure to consumer reporting agencies:

Disclosure pursuant to 5 U.S.C. 552a(b)(12) may be made from this system to “consumer reporting agencies” as defined in the Fair Credit Reporting Act (15 U.S.C. 1681a(f)) or the Federal Claims Collection Act of 1966 (31 U.S.C. 3701(a)(3)). The purpose of the disclosure is to aid in the collection of outstanding debts owed to the Federal Government; typically, to provide an incentive for debtors to repay delinquent Federal Government debts by making these debts part of their credit records.

The disclosure is limited to information necessary to establish the identity of the individual, including name, address, and taxpayer identification number (Social Security Number); the amount, status, and history of the claim; and the agency or program under which the claim arose.

Policies and practices for storing, retrieving, accessing, retaining, disposing and reporting of records in the system:

Storage:

Magnetic tapes and/or discs by account in numerical and alphabetical order; computer hard copy printouts filed in binders; copies of statements filed in folders.

Retrievability:

By customer name and Social Security Number.

Safeguards:

Records are maintained in lock-type cabinets within storage areas accessible only to authorized personnel. Personnel having access are limited to those having an official need-to-know who have been trained in handling personal information subject to the Privacy Act.

Retention and disposal:

Destroy 4 years after cutoff.

System manager(s) and address:

Director for Support Activity, Defense Finance and Accounting Service—Indianapolis Center, Attn: DFAS-IN/AQ, COL #337R, 8899 East 56th Street, Indianapolis, IN 46249-2130.

Notification procedure:

Individuals seeking to determine whether information about themselves is contained in this system of records should address written inquiries to the custodian of nonappropriated funds activities at the installation where record is believed to exist. Official mailing addresses are available from the T3System manager.

Individual should furnish their full name, Social Security Number, and account number.

Record access procedures:

Individuals seeking access to records about themselves contained in this system of records should address written inquiries to the custodian of nonappropriated funds activities at the installation where record is believed to exist. Official mailing addresses are available from the System manager.

Individual should furnish their full name, Social Security Number, and account number.

Contesting record procedures:

The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.

Record source categories:

From daily transaction registers/journals received from billeting officer, signal officer, and/or club officers; from the Department of the Treasury and the Defense Manpower Data Center.

Exemptions claimed for the system:

None.

[FR Doc. 05-16671 Filed 8-23-05; 8:45 am]

BILLING CODE 5001-06-U